ENVIRONMENTAL PROTECTION AGENCY

40 CFR Part 63

[EPA-HQ-OAR-2004-0094; FRL-8283-3]

RIN 2060-AM 75

National Emission Standards for Hazardous Air Pollutants: General Provisions

AGENCY: Environmental Protection Agency (EPA).

ACTION: Proposed rule; extension of public comment period.

SUMMARY: EPA is announcing that the comment period on the proposed amendments to the General Provisions of the National Emission Standards for Hazardous Air Pollutants published on January 3, 2007, is being extended until May 4, 2007.

DATES: Comments. The comment period has been extended from March 5, 2007. Comments must now be received on or before May 4, 2007.

ADDRESSES: Submit your comments, identified by Docket ID No. EPA-HQ-OAR-2004-0094, by one of the following methods:

• http://www.regulations.gov. Follow the on-line instructions for submitting comments.

• E-mail: a-and-r-docket@epa.gov, Attention Docket ID No. EPA-HQ-OAR-2004-0094.

• Facsimile: (202) 566-1741, Attention Docket ID No. EPA-HQ-OAR-2004-0094.

• Mail: U.S. Environmental Protection Agency, EPA West (Air Docket), 1200 Pennsylvania Ave., NW., Room: 3334, Mail Code: 6102T, Washington, DC, 20460, Attention E-Docket ID No. EPA-HQ-OAR-2004-0094.

• Hand Delivery: Air and Radiation Docket and Information Center, U.S. Environmental Protection Agency, 1301 Constitution Ave., NW, Room: 3334, Mail Code: 6102T, Washington, DC, 20460, Attention Docket ID No. EPA-HQ-OAR-2004-0094. Such deliveries are only accepted during the Docket's normal hours of operation, and special arrangements should be made for deliveries of boxed information.

Instructions: Direct your comments to Docket ID No. EPA-HQ-OAR-2004-0094. The EPA's policy is that all comments received will be included in the public docket without change and may be made available online at http://www.regulations.gov, including any personal information provided, unless the comment includes information claimed to be Confidential Business Information (CBI) or other information whose disclosure is restricted by statute. Do not submit information that you consider to be CBI or otherwise protected through, or e-mail. Send or deliver information identified as CBI only to the following address: Mr. Roberto Morales, OAQPS Document Control Officer, U.S. EPA (C404-02), Attention Docket ID No. EPA-HQ-OAR-2004-0094, Research Triangle Park, NC 27711. Clearly mark the part or all of the information that you claim to be CBI. The Web site is an “anonymous access” system, which means EPA will not know your identity or contact information unless you provide it in the body of your comment. If you send an e-mail comment directly to EPA without going through , your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the index. Although listed in the index, some information is not publicly available, (i.e., CBI or other information whose disclosure is restricted by statute). Certain other material, such as copyrighted material will be publicly available only in hard copy. Publicly available docket materials are available either electronically at http://www.regulations.gov or in hard copy at the Air and Radiation Docket, EPA/DC, EPA West, Room 3334, 1301 Constitution Ave., NW, Washington, DC. The Public Reading Room is open from 8:30 a.m. to 4:30 p.m., Monday through Friday, excluding legal holidays. The telephone number for the Public Reading Room is (202) 566-1744, and the telephone number for the Air and Radiation Docket is (202) 566-1742.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations and telephone numbers. The Docket Center's mailing address for U.S. mail and the procedure for submitting comments to are not affected by the flooding and will remain the same.

FOR FURTHER INFORMATION CONTACT: Rick Colyer, Program Design Group (D205-02), Sector Policies and Programs Division, Office of Air Quality Planning and Standards, U.S. EPA, Research Triangle Park, NC 27711, telephone number (919) 541-5262, electronic mail (e-mail) address, colyer.rick@epa.gov.

SUPPLEMENTARY INFORMATION: Regulated Entities. Categories and entities potentially regulated by this action include all major sources regulated under section 112 of the CAA.

World Wide Web (WWW). In addition to being available in the docket, an electronic copy of today's notice will be available on the WWW through the Technology Transfer Network (TTN). Following the Assistant Administrator's signature a copy of this notice will be posted on EPA's Technology Transfer Network (TTN) policy and guidance page for newly proposed or promulgated rules at http://www.epa.gov/ttn/oarpg. The TTN provides information and technology exchange in various areas of air pollution control.

Comment Period: We received 2 requests to extend the public comment period on the proposed amendments to the NESHAP General Provisions (72 FR 69, January 3, 2007). We agreed to these requests and are extending the comment period to May 4, 2007. Public comments must be received on or before that date.

We expect to add to the docket by the end of March some additional information and analyses relevant to the proposal. Commenters will then have approximately 30 days to review the additional information and provide any comments by May 4, 2007. Anyone interested in reviewing the additional information should check the docket beginning in April.

How Can I Get Copies of the Proposed Amendments and Other Related Information?

EPA has established the official public docket for the proposed rulemaking under docket ID No. EPA-HQ-OAR-2004-0094. Information on how to access the docket is presented above in the ADDRESSES section. In addition, information may be obtained from the Web page for the proposed rulemaking at: http://www.epa.gov/ttn/atw/gp/gppg.html.

Dated: February 28, 2007.
Elizabeth Craig,
Acting Assistant Administrator for Air and Radiation.

[FR Doc. E7-3758 Filed 3-2-07; 8:45 am]

BILLING CODE 6560-50-P